DEPARTMENT OF ENERGY

Revision to the Record of Decision for the Department of Energy's Waste Management Program: Treatment and Storage of Transuranic Waste

AGENCY: Department of Energy.

ACTION: Revision to Record of Decision.

SUMMARY: Pursuant to 10 CFR 1021.315, the Department of Energy (DOE) is revising the Record of Decision for the Department of Energy's Waste Management Program: Treatment and Storage of Transuranic Waste issued on January 20, 1998 (63 FR 3629), as revised previously on December 19, 2000 (65 FR 82985) and July 13, 2001 (66 FR 38646). The Department has now decided to transfer approximately 27 cubic meters of transuranic (TRU) waste from a portion of the Battelle Columbus Laboratory, the Battelle West Jefferson North Site (West Jefferson) in Columbus, Ohio, and approximately 9 cubic meters of TRU waste from the Energy Technology Engineering Center (ETEC) in Canoga Park, California, to the Hanford Site near Richland, Washington, for storage. DOE expects that this TRU waste will ultimately be shipped to the Waste Isolation Pilot Plant (WIPP) in New Mexico for disposal. The TRU waste will be shipped to Hanford from both sites in Type B truck-mounted shipping casks licensed by the U.S. Nuclear Regulatory Commission (NRC).

In its previous Record of Decision (ROD), based on the analysis in the Waste Management Programmatic Environmental Impact Statement (WM PEIS), DOE/EIS-0200F, dated May 1997, DOE had decided (with one exception) that each DOE site would prepare its own TRU waste for disposal, and store the waste onsite until it could be shipped to WIPP for disposal.

ADDRESSES: Copies of the Final Waste Management Programmatic Environmental Impact Statement, the WIPP Disposal Phase Final Supplemental Environmental Impact Statement, the first WM ROD, the first and second revised WM RODs, the WIPP disposal ROD, and this revised WM ROD are available from: The Center for Environmental Management Information, P.O. Box 23769, Washington, DC 20026-3769, Telephone: 1-800-736-3282 (in Washington, DC: 202-863-5084).

For copies of the Environmental Assessment for the Battelle Columbus Laboratories Decommissioning Project, June 1990, and further information about the management of TRU waste at the Battelle West Jefferson Site, contact: Mr. Thomas A. Baillieul, Columbus Environmental Management Project, U.S. Department of Energy, P.O. Box 200, West Jefferson, OH 43162, Telephone: 614-424-3559.

For copies of the draft Environmental Assessment for Cleanup and Closure of the Energy Technology Engineering Center, January 2002, and further information about the management of TRU waste at ETEC, contact: Ms. Mary Gross, Oakland Operations Office, U.S. Department of Energy, 1301 Clay Street, Room 700N, Oakland, CA 94612, Telephone: 510-637-1629.

FOR FURTHER INFORMATION CONTACT: For further information on the disposal of TRU waste at WIPP, contact: Ms. Lynne Smith, U.S. Department of Energy, WIPP Office EM-23, Office of Environmental Management, 19001 Germantown Road, Germantown, MD 20874, Telephone: 301-903-4688.

For further information on Hanford site TRU operations, contact: Mr. Todd Shrader, U.S. Department of Energy, Richland Operations Office, P.O. Box 550, MSIN A6-38, Richland, WA 99352, Telephone: 509-376-2725.

For information on DOE's National Environmental Policy Act (NEPA) process, contact: Ms. Carol Borgstrom, Director, Office of NEPA Policy and Compliance (EH-42), U.S. Department of Energy, 1000 Independence Avenue, SW., Washington, DC 20585, Telephone 202-586-4600, or leave a message at 1-800-472-2756.

SUPPLEMENTARY INFORMATION:

I. Background

The WM PEIS evaluated the potential environmental impacts of treating and storing TRU waste at DOE generator sites and at DOE sites, such as Hanford, where this waste could be consolidated on a regional or centralized basis. In the WM PEIS ROD for TRU waste, DOE selected the Decentralized Alternative, stating that “each of the Department's sites that currently has or will generate TRU waste will prepare and store its waste on site” prior to shipment to WIPP.¹ The WM PEIS ROD also noted that “in the future, the Department may decide to ship transuranic wastes from sites where it may be impractical to prepare them for disposal to sites where DOE has or will have the necessary capability.” The WM PEIS ROD stated that the sites that could receive TRU waste shipments from other sites were the Idaho National Engineering and Environmental Laboratory, the Oak Ridge National Laboratory, the Savannah River Site, and the Hanford Site, and that such decisions would be subject to appropriate review under NEPA.

¹ The only exception to this decision was the Sandia National Laboratory in New Mexico, which will ship its TRU waste to the Los Alamos National Laboratory for disposal preparation and storage before disposal at WIPP.

TRU waste is waste that contains alpha particle-emitting radionuclides with atomic numbers greater than that of uranium (92) and half-lives greater than 20 years in concentrations greater than 100 nanocuries per gram. TRU waste is classified according to the radiation dose at a package surface. Contact-handled TRU waste has a radiation dose rate at a package surface of 200 millirem per hour or less; this waste can safely be handled directly by personnel. Remote-handled TRU waste has a radiation dose rate at a package surface greater than 200 millirem per hour, and must be handled remotely (e.g., with machinery designed to shield workers from radiation). Some TRU wastes are mixed with polychlorinated biphenyls (PCBs).²

² DOE has applied to the Environmental Protection Agency to designate WIPP as a chemical waste landfill, so that WIPP can dispose of PCB-contaminated TRU waste.

WIPP is not currently authorized by the State of New Mexico to accept remote-handed TRU waste for disposal. However, DOE submitted a request for an amendment of its operating permit to include remote-handled TRU waste on June 28, 2002. The approval process for the permit amendment is expected to take approximately 2 years. DOE currently expects to begin shipping remote-handled TRU waste to WIPP in late 2004 or 2005.

Battelle West Jefferson North Site

DOE is contractually responsible for the disposal of approximately 27 cubic meters of contact- and remote-handled TRU waste generated as part of the cleanup of the Battelle West Jefferson North Site. This waste consists of sample residues, analytical equipment, and hot cell fixtures that became highly contaminated during several decades of metallurgical and nuclear fuel research. The remote-handled waste is currently being characterized and packaged into approximately 115 55-gallon drums. These packaged drums will meet or exceed the draft Waste Acceptance Criteria for disposal of remote-handled TRU waste at WIPP before it will be shipped to the Hanford Site. The contact-handled TRU waste from an earlier decommissioning of a former plutonium laboratory at the site, (up to 10 drums, i.e., approximately 2 cubic meters) will require final packaging and disposal certification at a site with the necessary handling capabilities for this type of material.

As part of the closeout of its nuclear materials research contract, the Department of Energy is assisting in the remediation of the site. Although the West Jefferson facility is privately owned, contract terms specify that all radioactive waste generated during the facility cleanup is “DOE-owned” for the purposes of disposal. The site's TRU waste is being stored in shielded holding areas within the hot cell building, one of three buildings slated for demolition. In order to meet the site's schedule for building demolition, removal of the stored TRU waste must begin by the summer of 2002 and be completed within 12 months, well in advance of DOE's anticipated timeframe (late 2004 or 2005) for commencing shipments of remote-handled TRU waste to WIPP.

Continued storage of the TRU waste elsewhere on the West Jefferson site until WIPP is ready to receive the remote-handled waste would require construction of a new, shielded facility licensed by the State of Ohio and the NRC. Also, building a new facility would divert funding away from necessary clean-up activities and be inconsistent with DOE's goal of early removal of radioactive waste from privately owned sites. Therefore, DOE needs to ship the remote-handled TRU waste to another DOE site that has the requisite remote-handling and storage capabilities.

Energy Technology Engineering Center

DOE is responsible for the disposal of 11 cubic meters of TRU waste at ETEC, a government-owned complex of buildings located on the Santa Susana Field Laboratory in southern California. Up to 9 cubic meters of the TRU waste are remote-handled and approximately 2 cubic meters are contact-handled. (The remote-handled TRU waste will be repackaged and reduced in volume prior to shipment. DOE expects that the volume of remote-handled TRU waste to be shipped will be between 3 and 7 cubic meters. Thus, the maximum TRU shipping volume is expected to be about 9 cubic meters.)

The contact-handled TRU waste consists of solidified oils from the decontamination and decommissioning of a nuclear materials development facility and debris waste from the decontamination and demolition of glove boxes used for nuclear fuel decladding and repackaging operations. The remote-handled TRU waste, most of which has a low (approximately 130 parts per million) concentration of PCB contaminant, consists of drain line residue that accumulated in the Hot Laboratory (Building 020) drain line system over 30 years of facility operation, and one drum of debris waste from the cleanup of the Hot Laboratory and a nuclear materials development facility. TRU wastes are currently stored in the Radioactive Waste Handling Building at ETEC.

The waste will be packaged in 26 to 45 55-gallon drums for shipping (approximately 11 drums of contact-handled and 15 to 34 drums of remote-handled TRU waste). Up to 50 percent of this contact-handled TRU waste could be determined to be low-level radioactive waste (LLW) after further characterization. ETEC does not have the capability to perform the radiological characterization that is required to identify any non-TRU drums and remove them from the waste stream. In addition, ETEC does not have the capability to certify that the contact-handled TRU waste meets the present WIPP Waste Acceptance Criteria. For these reasons, ETEC cannot currently ship its contact-handled TRU waste directly to WIPP.

ETEC is operated by Rocketdyne Propulsion & Power, a division of The Boeing Company, which owns the Santa Susana Field Laboratory land. DOE has determined that ETEC is surplus to its current needs. DOE intends to remove all radioactive materials and waste resulting from DOE activities at ETEC and turn the site over to Rocketdyne in 2006. In January 2002, DOE issued a draft Environmental Assessment for Cleanup and Closure of the Energy Technology Engineering Center (DOE/EA-1345) that describes the cleanup, decommissioning, and demolition of the remaining facilities at ETEC.

Developing the ability at ETEC to certify the contact-handled TRU waste as meeting the WIPP Waste Acceptance Criteria would require the construction of a new radiological facility or use of a mobile vendor to certify the waste. It would be impractical to construct and then to decontaminate and remove a radioactive waste management facility at the Santa Susana Field Laboratory, and mobile vendors are not capable of certifying all of the ETEC contact-handled TRU waste.³ Therefore, DOE needs to ship the contact-handled TRU waste to another DOE site for characterization and packaging in accordance with the WIPP Waste Acceptance Criteria.

³ Some of the contact-handled TRU waste is homogeneous and will require coring and sampling in order to be certified as meeting the WIPP Waste Acceptance Criteria. Mobile vendors do not have this capability.

Storage of remote-handled TRU waste elsewhere at ETEC until it could be sent to WIPP would require construction of a new storage facility. Further, ETEC does not have the capability to characterize and prepare the remote-handled TRU waste for shipment to WIPP. Building a facility with these capabilities would be impractical, would divert funding away from necessary clean-up activities, and would be inconsistent with DOE's goal of early removal of radioactive waste from privately owned sites. Therefore, DOE needs to ship the remote-handled TRU waste to another DOE site that has the requisite capabilities for storing this waste and preparing it for eventual shipment to WIPP. As requested by the U.S. Environmental Protection Agency (EPA), DOE has initiated discussions with EPA prior to the packaging of this waste for shipment to Hanford.⁴

⁴ Letter dated February 28, 2002, from John H. Smith, EPA, to Lynne Smith, DOE WIPP Director.

II. Decision

Battelle West Jefferson North Site

DOE has decided to transfer approximately 27 cubic meters (approximately 125 55-gallon drums) of contact- and remote-handled TRU waste from the West Jefferson site to the DOE Hanford Site for storage prior to disposal at WIPP. DOE will ship this TRU waste in NRC-licensed Type B truck-mounted casks that are specifically certified for the West Jefferson TRU wastes. Approximately 15 truck shipments will be required to transfer the inventory of packaged TRU waste to Hanford. The shipments are expected to commence in summer of 2002 and to be completed within 12 months. Onsite activities will involve packaging the waste for shipment and loading trucks for transport.

Energy Technology Engineering Center

DOE has decided to transfer up to 9 cubic meters of TRU waste (26 to 45 55-gallon drums), of which most of the remote-handled TRU waste has a low (approximately 130 parts per million) concentration of PCB contaminant, from ETEC to the DOE Hanford Site for storage prior to planned disposal at WIPP. DOE will ship this waste in NRC-licensed Type B truck-mounted casks that will be specifically certified for the ETEC TRU wastes. Up to five casks will be required to transfer the inventory of packaged TRU waste to the receiving site in 1 to 5 shipments, depending on the volume of ETEC waste that can be placed in each cask and the number of casks that can be transported per shipment. DOE intends to complete the shipments over a 12-month period. Onsite activities will involve packaging the waste for shipment and loading trucks for transport. However, DOE will continue its consultation with EPA before packaging the waste for transport.

Hanford Site

The Hanford Site, located in Washington State near Richland, has an established radioactive waste management capability in the central plateau of the 586-square mile (1,520-square kilometer) reservation. At Hanford, the West Jefferson and ETEC TRU remote-handled waste will be stored in shielded containers at the solid radioactive and mixed waste management complex located in the 200 West Area of the site until it can be accepted at WIPP. ETEC and West Jefferson contact-handled TRU waste will be assayed at Hanford, and any fraction determined to be LLW will be disposed of at Hanford. Both ETEC (also known as Rocketdyne on Hanford's approved generator's list) and West Jefferson are currently approved generator sites for disposal of LLW at Hanford. The remaining fraction determined to be contact-handled TRU waste will be packaged, certified to meet the WIPP Waste Acceptance Criteria, and shipped to WIPP for disposal.

III. Basis for the Decision

DOE needs to begin shipping its TRU waste from the West Jefferson and ETEC sites in the near future in order to meet the Department's timetables for cleanup of contaminated buildings at these sites. However, the TRU waste at both sites is predominantly remote-handled TRU waste, which cannot presently be accepted at WIPP for disposal. Constructing new facilities to continue onsite storage until the waste could be accepted at WIPP (estimated to be approximately late 2004 or 2005) would be costly, and would divert funds from decontamination and decommissioning activities. Constructing new storage capacity would also be contrary to the DOE's goal of early removal of radioactive waste from privately owned sites.

DOE's Hanford Site offers a practical, safe, and secure location for storing the wastes from West Jefferson and ETEC. Hanford also has a WIPP-approved program for certifying contact-handled TRU waste for disposal. Comparatively large volumes of remote- and contact-handled TRU waste (including PCB-commingled TRU waste) have been and are being managed at Hanford, which has trained waste management personnel and storage capacity for TRU waste at the 200 Area waste management complex. No new storage facilities would be needed at any of the three sites; thus, the potential cost and health and environmental impacts associated with building new facilities at the two small sites, including a capability at ETEC to characterize and prepare its remote-handled TRU waste, would be avoided.

Hanford's program for certifying and shipping contact-handled TRU waste according to WIPP's Waste Acceptance Criteria and applicable state and federal regulations is operational. The site's planning for facilities and operations to characterize, certify and package remote-handled TRU waste is also well underway.⁵ Using Hanford's capabilities to certify and ship the West Jefferson and ETEC TRU waste to WIPP will avoid the cost of establishing such capabilities at the two small sites.

⁵ The Hanford Site is currently analyzing additional facilities to characterize and prepare remote-handled TRU waste in the Draft Hanford Site Solid (Radioactive and Hazardous) Waste Program Environmental Impact Statement (DOE/EIS-0286D, April 2002, Richland Operations).

DOE's previous analyses under the National Environmental Policy Act (WM PEIS, WIPP SEIS-II, and the Environmental Assessment for Battelle Columbus Laboratories Decommissioning Project (DOE/EA-0433, June 1990)) indicate that the potential health and environmental impacts of shipping a total of approximately 36 cubic meters of TRU waste from West Jefferson and ETEC to Hanford would be very small. Further, based on its review of the previous NEPA documents, DOE found that it is clear that its decision to ship TRU waste from the Battelle West Jefferson Site and ETEC to Hanford, for storage and subsequent disposal at WIPP, is not a substantial change to the proposed action analyzed in the previous NEPA documentation relevant to environmental concerns, and that there are no significant new circumstances or information relevant to environmental concerns and bearing on the proposed action or its impacts. Therefore, DOE concluded that additional NEPA review is not required under 40 CFR 1502.9(c) or 10 CFR 1021.314 to implement this decision.

Although the WM PEIS did not analyze the onsite impacts of preparing all of the TRU waste that DOE now has decided to ship off site from West Jefferson (identified as Battelle Columbus or BCL in the WM PEIS) and ETEC, the inventory data for West Jefferson (580 cubic meters) and ETEC (9 cubic meters) were included and those impacts were analyzed in the WIPP SEIS-II. The onsite health and environmental impacts of preparing the West Jefferson (identified as Battelle Columbus or BCL in the WIPP SEIS-II) and ETEC wastes for offsite shipment were very small (see WIPP SEIS-II, Sections 5.1.9, 5.1.10, and 5.1.11), and the impacts of the volumes of TRU waste that DOE has now decided to ship will be within the impacts identified in the WIPP SEIS-II.

Although the WM PEIS did not identify specific transportation corridor impacts between the West Jefferson or ETEC sites and the Hanford Site, the WM PEIS analyzed a centralized alternative under which approximately 700 cubic meters of remote-handled TRU waste and 1,700 cubic meters of contact-handled TRU waste would be transported from offsite DOE generator sites to Hanford over 20 years (see WM PEIS, Table 8.1-1 and Section 8.3.4). The potential risks associated with transportation (including routine and accident conditions) of the total of approximately 36 total cubic meters that DOE has now decided to ship would be small and much less than the transportation impacts (including routine and accident risks) identified in the WM PEIS (see WM PEIS, Sections 8.4.2, 8.7.5, and 8.10.1.1). In addition, the WIPP SEIS-II specifically analyzed transportation corridor impacts between ETEC and Hanford, which were small (see WIPP SEIS-II, Section 5.1.8). The volume of ETEC waste currently projected to be shipped to Hanford after volume reduction (11 cubic meters to 9 cubic meters) is identical to that analyzed in the WIPP SEIS II (see WIPP SEIS-II, Table 2-2).

In addition, the Environmental Assessment for Battelle Columbus Laboratories Decommissioning Project identified transportation corridor impacts between West Jefferson and Hanford for shipping 1,800 cubic meters of TRU waste over a period of 2 years and also found that the potential impacts would be very small. The 27 cubic meters of West Jefferson waste DOE has now decided to ship, and thus the potential transportation corridor impacts, would be substantially less than those identified in the environmental assessment.

The WM PEIS analyzed the onsite impacts at Hanford of storing, characterizing, and preparing up to 17,000 cubic meters of remote-handled TRU waste and 38,000 cubic meters of contact-handled TRU waste for shipment to WIPP (TRU waste generated at Hanford and TRU waste shipped to Hanford from offsite generators [Lawrence Berkeley Laboratory, Lawrence Livermore National Laboratory, Idaho National Engineering and Environmental Laboratory, and Los Alamos National Laboratory]) (see WM PEIS, Table 8.1-1 and Section 8.3.4). The health and environmental impacts of managing these volumes of waste at Hanford were small (see WM PEIS, Volume II, Site Data Tables, Section II.5.3). Although the WM PEIS did not analyze the specific waste inventory at West Jefferson and ETEC that DOE has now decided to ship to Hanford (approximately 36 cubic meters total), the characteristics of the West Jefferson and ETEC wastes are similar to the TRU wastes analyzed in the WM PEIS at Hanford. Further, the waste volumes to be shipped to Hanford would represent a very small fraction of the total contact- and remote-handled TRU waste to be prepared at Hanford for shipment to WIPP (0.07 percent) as analyzed in the WM PEIS.

For the reasons stated above, DOE is revising its earlier decision and will transfer approximately 27 cubic meters of TRU waste from the West Jefferson site and approximately 9 cubic meters of TRU waste from the ETEC site to Hanford for storage until certification and shipment to WIPP for disposal. Low-level waste (if any) identified during the certification process will be disposed of at Hanford according to existing procedures.

Issued in Washington, DC, this 27th day of August, 2002.
Jessie Hill Roberson,
Assistant Secretary for Environmental Management.

[FR Doc. 02-22698 Filed 9-5-02; 8:45 am]

BILLING CODE 6450-01-P